DEPARTMENT OF COMMERCE

International Trade Administration

[A-533-813]

Certain Preserved Mushrooms From India: Notice of Partial Rescission of Antidumping Duty Administrative Review

AGENCY: Import Administration, International Trade Administration, Department of Commerce.

ACTION: Notice of partial rescission of antidumping duty administrative review.

EFFECTIVE DATE: August 18, 2003.

FOR FURTHER INFORMATION CONTACT: David J. Goldberger or Kate Johnson, Import Administration, International Trade Administration, U.S. Department of Commerce, 14th Street and Constitution Avenue, NW., Washington, DC 20230; telephone: (202) 482-4136 or (202) 482-4929, respectively.

SUPPLEMENTARY INFORMATION:

Background

On February 3, 2003, the Department published in the Federal Register (68 FR 5272) a notice of “Opportunity To Request Administrative Review” of the antidumping duty order on certain preserved mushrooms from India for the period February 1, 2002, through January 31, 2003. On February 21, 2003, Agro Dutch Foods, Ltd. (Agro Dutch), requested an administrative review of its sales. On February 27, 2003, Weikfield Agro Products, Ltd. (Weikfield), requested an administrative review of its sales. On February 28, 2003, Saptarishi Agro Industries, Ltd. (Saptarishi Agro), requested an administrative review of its sales. Also, on February 28, 2003, the petitioner ¹ requested an administrative review of the antidumping duty order for the following companies: Agro Dutch, Alpine Biotech, Ltd. (Alpine Biotech), Dinesh Agro Products, Ltd. (Dinesh Agro), Flex Foods, Ltd. (Flex Foods), Himalya International, Ltd. (Himalya), Mandeep Mushrooms, Ltd. (Mandeep Mushrooms), Premier Mushroom Farms (Premier), Saptarishi Agro, and Weikfield. On March 25, 2003, the Department published a notice of initiation of an administrative review of the antidumping duty order on certain preserved mushrooms from India with respect to these companies. See Initiation of Antidumping and Countervailing Duty Administrative Reviews and Requests for Revocations in Part, 68 FR 14399.

¹ The petitioner is the Coalition for Fair Preserved Mushroom Trade which includes the American Mushroom Institute and the following domestic companies: L.K. Bowman, Inc., Modern Mushroom Farms, Inc., Monterey Mushrooms, Inc., Mount Laurel Canning Corp., Mushroom Canning Company, Southwood Farms, Sunny Dell Foods, Inc., and United Canning Corp.

On May 5, 2003, Flex Foods reported that it had no sales of the subject merchandise during the period of review. We confirmed Flex Foods' claim by reviewing data from the U.S. Bureau of Customs and Border Protection. See Memorandum to the File dated June 6, 2003, on file in Room B-099 of the Commerce Department. We received no comments on this memorandum from any party.

On April 7, 2003, the petitioner timely withdrew its request for review with respect to Alpine Biotech and Mandeep Mushrooms. On June 9, 2003, the petitioner requested that the Department extend the deadline established under 19 CFR 351.213(d)(1) until July 14, 2003, to withdraw its request for review of Himalya. On June 18, 2003, we granted this request. On July 14, 2003, the petitioner withdrew its request for review of Himalya.

Partial Recission of Review

Section 351.213(d)(1) of the Department's regulations stipulates that the Secretary will permit a party that requests a review to withdraw the request within 90 days of the date of publication of notice of initiation of the requested review. In this case, the petitioner withdrew its request for review of Alpine Biotech and Mandeep Mushrooms within the 90-day period and withdrew its request for review of Himalya pursuant to an authorized extension of the 90-day period. Therefore, because we have received timely requests for rescission, we are rescinding, in part, this review of the antidumping duty order on certain preserved mushrooms from India as to Alpine Biotech, Himalya, and Mandeep Mushrooms. We are also rescinding this review as to Flex Foods, in accordance with 19 CFR 351.213(d)(3), because it had no sales of the subject merchandise during the period of review. This review will continue with respect to Agro Dutch, Dinesh Agro, Premier, Saptarishi Agro, and Weikfield.

This notice is published in accordance with section 751 of the Tariff Act of 1930, as amended, and 19 CFR 351.213(d)(4).

Dated: August 12, 2003.
James J. Jochum,
Assistant Secretary for Import Administration.

[FR Doc. 03-21062 Filed 8-15-03; 8:45 am]

BILLING CODE 3510-DS-P